DEPARTMENT OF STATE

[Public Notice: 12348]

Notice of Public Meeting of the U.S. President's Emergency Plan for AIDS Relief (PEPFAR) Scientific Advisory Board

SUMMARY: In accordance with the Federal Advisory Committee Act, the U.S. Department of State announces that the PEPFAR Scientific Advisory Board (SAB) will hold a hybrid meeting of the full board. The meeting is open to the public virtually and a public comment session will be held during the meeting. Pre-registration is required for providing public comment.

DATES: The meeting will be held on Friday April 5th, 2024, from approximately 9 a.m. to 5 p.m. (EDT). SAB members will be in person, but virtual participation will be accommodated using a web-based virtual platform. In-person attendance will be limited; however, public participation on the virtual platform is welcome. Requests to attend the meeting must be received no later than March 29, 2024. Requests for reasonable accommodations or to provide public comment must be received no later than March 29th, 2024.

ADDRESSES: To participate in the event virtually, individuals are asked to pre-register here: https://statedept.zoomgov.com/meeting/register/vJItfuyrqj4sH9XaoJXAWIOeLdX-W0yY9QY#/registration. The agenda will be sent to all registrants and will also be posted on the PEPFAR SAB web page (https://www.state.gov/scientific-advisory-board-pepfar/) one week in advance of the meeting, along with instructions on how to access the meeting.

FOR FURTHER INFORMATION CONTACT: Dr. Michael Reid, Director of the Office of Science and Research, at reidmj@state.gov or (202) 441-1483, and Dr. Lindsey Yessick, designated Federal officer for the SAB, Bureau of Global Health Security and Diplomacy, U.S. Department of State, at yessicklr@state.gov or (202) 549 8769.

SUPPLEMENTARY INFORMATION:

Background: The SAB is established under the general authority of the Secretary of State and the Department of State (“the Department”) as set forth in title 22 of the United States Code as amended, in particular section 2656 of that title, and consistent with the Federal Advisory Committee Act, as amended (5 U.S.C. 1001 et seq.). The SAB serves the U.S. Global AIDS Coordinator solely in an advisory capacity concerning scientific, implementation, and policy issues related to the global response to HIV/AIDS.

Agenda: SAB members will be discussing challenges and opportunities in HIV treatment in PEPFAR programs, PEPFAR's program reporting requirements, the role of behavioral science in PEPFAR programs, and roll out of long-acting prevention tools and PEPFAR's plans with respect to sustainability:

• Challenges and Opportunities in HIV treatment in PEPFAR programs

• PEPFAR's program reporting requirements

• Behavioral Science Interventions in PEPFAR Programs

• Updates on Long-Acting Agents for Prevention

• Advancing PEPFAR's sustainability efforts

Registered members of the public will be permitted to participate in a comment period at the end of the meeting in accordance with the chair's instructions.

Public Participation: Members of the public who wish to participate are asked to register directly at the link listed in the ADDRESSES section or by sending an email to Ms. Crystal Solomon at SolomonCD@state.gov no later than March 29th, 2024. Individuals are required to provide their name, email address, and organization. At registration, individuals are also asked to indicate any request for reasonable accommodation and/or a request to provide public comment. Time for public comment may be limited. Requests made after March 29th, 2024, will be considered but might not be able to be fulfilled.

Lindsey R. Yessick,
Public Health Systems Advisor, U.S. President's Emergency Plan for AIDS Relief (PEPFAR), Bureau of Global Health Security and Diplomacy, U.S. Department of State.

[FR Doc. 2024-04502 Filed 3-1-24; 8:45 am]

BILLING CODE 4710-10-P